DEPARTMENT OF TRANSPORTATION

Federal Aviation Administration

14 CFR Part 39

[Docket No. 2000-NE-12-AD]

RIN 2120-AA64

Airworthiness Directives; Turbomeca S.A. Arrius Models 2B, 2B1, 2F Turboshaft Engines

AGENCY: Federal Aviation Administration, DOT.

ACTION: Notice of proposed rulemaking (NPRM).

SUMMARY: This document proposes the adoption of a new airworthiness directive (AD) that is applicable to Turbomeca S.A. Arrius Models 2B, 2B1, and 2F turboshaft engines. This proposal would require the replacement of the right injector half manifold, left injector half manifold, and privilege injector pipe with the engine installed on the helicopter. This proposal is prompted by reports from the Direction Generale de L'Aviation Civile (DGAC), which is the airworthiness authority for France, of partially or totally blocked fuel injection manifolds, which were found during inspections at a repair workshop. The actions specified by the proposed AD are intended to prevent engine flameout during rapid deceleration, or the inability to maintain the 2.5 minutes one engine inoperative (OEI) rating. The actions are also intended to prevent injector air path cracks, due to blockage of the fuel injection manifolds.

DATES: Comments must be received by February 5, 2001.

ADDRESSES: Submit comments to the Federal Aviation Administration (FAA), New England Region, Office of the Regional Counsel, Attention: Rules Docket No. 2000-NE-12-AD, 12 New England Executive Park, Burlington, MA 01803-5299. Comments may also be sent via the Internet using the following address: “9-ane-adcomment@faa.gov”. Comments sent via the Internet must contain the docket number in the subject line. Comments may be inspected at this location between 8 a.m. and 4:30 p.m., Monday through Friday, except Federal holidays.

The service information referenced in the proposed rule may be obtained from Turbomeca S.A., 40220 Tarnos, France; telephone: (33) 05 59 64 40 00; fax: (33) 05 59 64 60 80. This information may be examined at the FAA, New England Region, Office of the Regional Counsel, 12 New England Executive Park, Burlington, MA.

FOR FURTHER INFORMATION CONTACT: James Rosa, Aerospace Engineer, Engine Certification Office, FAA, Engine and Propeller Directorate, 12 New England Executive Park, Burlington, MA 01803-5299; telephone: (781) 238-7152; fax: (781) 238-7199.

SUPPLEMENTARY INFORMATION:

Comments Invited

Interested persons are invited to participate in the making of the proposed rule by submitting such written data, views, or arguments as they may desire. Communications should identify the Rules Docket number and be submitted to the address specified above. All communications received on or before the closing date for comments, specified above, will be considered before taking action on the proposed rule. The proposals contained in this action may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NE-12-AD.” The postcard will be date stamped and returned to the commenter.

Availability of NPRM's

Any person may obtain a copy of this NPRM by submitting a request to the FAA, New England Region, Office of the Regional Counsel, Attention: Rules Docket No. 2000-NE-12-AD, 12 New England Executive Park, Burlington, MA 01803-5299.

Discussion

The DGAC recently notified the FAA that an unsafe condition may exist on Turbomeca S.A. Arrius 2B, 2B1, and 2F turboshaft engines. The DGAC advises that during inspections performed at a repair workshop, some right injector half manifolds, left injector half manifolds, and privilege injector pipes were found totally or partially blocked. This condition may cause engine flameout during engine deceleration or the inability to maintain the 2.5 minutes OEI rating. This condition may also cause injector air path cracking.

Manufacturer's Service Information

Turbomeca has issued alert service bulletin (ASB) No. A319 73 2012, Revision 2, dated May 25, 1999, for Arrius 2B and 2B1 turboshaft engines and ASB No. A319 73 4001, Revision 3, dated May 25, 1999, for Arrius 2F turboshaft engines. These ASB's require the replacement of the right injector half manifold, left injector half manifold, and privilege injector pipes, based on operating hours and power check performance. When replacing the manifolds for the first time, the ASB's also require a borescope inspection of the flame tube and the high pressure turbine (HPT) area. The DGAC classified these ASB's as mandatory and issued AD 1999-217(A) and AD 1999-233(A) in order to assure the airworthiness of these Turbomeca turboshaft engines in France.

Bilateral Agreement Information

This engine model is manufactured in France and is type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products for this type design that are certificated for operation in the United States.

Proposed Requirements of this AD

Since an unsafe condition has been identified that is likely to exist or develop on other products of this same type design, the proposed AD would require:

• Replacement of the right injector half manifolds, left injector half manifolds, and privilege injector pipes with 200 or more hours time-in-service (TIS) on the effective date of the proposed AD within 30 days after the effective date of the proposed AD.

• Thereafter, the injector manifolds must be replaced within 200 hours TIS since last replacement.

Those actions would be required to be accomplished in accordance with the ASB's described previously.

Economic Impact

There are about 130 engines of the affected design in the worldwide fleet. The FAA estimates that 22 engines installed on aircraft of U.S. registry would be affected by this proposed AD, that it would take about 2 work hours per engine to accomplish the proposed actions, and that the average labor rate is $60 per work hour. Required parts would cost about $14,320.00 per engine. Based on these figures, the total cost impact of the proposed AD on U.S. operators is estimated to be $317,680.00 for initial inspection and parts replacement. The manufacturer has advised the DGAC that the operator may exchange the removed injection manifolds, at no cost to the operator, thereby substantially reducing the cost impact of this proposed rule.

Regulatory Impact

This proposal does not have federalism implications, as defined in Executive Order 13132, because it would not have a substantial direct effect on the States, on the relationship between the national government and the States, or on the distribution of power and responsibilities among the various levels of government. Accordingly, the FAA has not consulted with state authorities prior to publication of this proposal.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Turbomeca: Docket No. 2000-NE-12-AD.

Applicability: This airworthiness directive (AD) is applicable to Arrius Models 2B, 2B1, and 2F engines. These engines are installed on but not limited to Eurocopter France Model EC120B and Eurocopter Deutschland EC135 T1 rotorcraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with the following initial and repetitive replacement procedures are required unless already done.

Perform the following actions to prevent engine flameout and the inability to maintain the 2.5 minutes one engine inoperative (OEI) rating due to blockage of the fuel injection manifolds.

Initial Replacement

(a) Replace injector manifolds and borescope—inspect the flame tube and the high pressure turbine area within 30 days after the effective date of this AD, or prior to exceeding 200 hours time-in-service (TIS) since new, whichever is later. Do this in accordance with 2.A. through 2.C.(3) (except for recording requirement) of Turbomeca Alert Service Bulletin (ASB) No. A319 73 2012 for Arrius 2B and 2B1 turboshaft engines, and ASB No. A319 73 4001 for Arrius 2F turboshaft engines.

Repetitive Replacements

(b) Thereafter, replace injector manifolds within 200 hours TIS since last replacement, or prior to further flight after performing a flight manual power check if the power check shows a negative turbine outlet temperature (TOT) or negative T4 margin.

(c) After the effective date of this AD, do not install any injector manifold with 200 hours TIS since new or greater onto an engine.

Alternative Methods of Compliance

(d) An alternative method of compliance or adjustment of the compliance time that provides an acceptable level of safety may be used if approved by the Manager, Engine Certification Office (ECO). Operators shall submit their request through an appropriate FAA Principal Maintenance Inspector, who may add comments and then send it to the Manager, ECO.

Note 2: Information concerning the existence of approved alternative methods of compliance with this airworthiness directive, if any, may be obtained from the ECO.

Special Flight Permits

(e) Special flight permits may be issued in accordance with §§ 21.197 and 21.199 of the Federal Aviation Regulations (14 CFR 21.197 and 21.199) to operate the aircraft to a location where the requirements of this AD can be accomplished.

Issued in Burlington, Massachusetts, on November 30, 2000.
Mark C. Fulmer,
Acting Manager, Engine and Propeller Directorate, Aircraft Certification Service.

[FR Doc. 00-31114 Filed 12-5-00; 8:45 am]

BILLING CODE 4910-13-U